DEPARTMENT OF THE INTERIOR

Bureau of Land Management

[OR-930-6350-DP-047H; HAG-07-0140]

Notice of Availability of the Draft Environmental Impact Statement for the Revision of Resource Management Plans of the Western Oregon Bureau of Land Management Districts

AGENCY: Department of the Interior, Bureau of Land Management.

ACTION: Notice of Availability.

SUMMARY: In accordance with the National Environmental Policy Act, the Federal Land Policy and Management Act, and the Revested Oregon and California Railroad and Reconveyed Coos Bay Wagon Road Grant Lands Act (O&C Lands Act), the Bureau of Land Management (BLM) has prepared a Draft Resource Management Plan/Draft Environmental Impact Statement (DRMP/DEIS) to revise selected portions of the 1995 Resource Management Plans (RMPs) for six BLM districts in western Oregon. These revisions will address the sustained yield timber production provisions of the O&C Lands Act as well as resource protection provisions of the Endangered Species Act and the Clean Water Act. The alternatives in the DRMP/DEIS also comply with the 2003 settlement agreement between the Secretary of the Interior and the American Forest Resource Council (AFRC, et al v. Clarke).

DATES: The 90-day public comment period on the DRMP/DEIS will begin the date the Environmental Protection Agency publishes their Notice of Availability (NOA) in the Federal Register. Comments must be received on or before the end of the comment period at the address listed below. Public meetings to gather comments on the DRMP/DEIS will be held in a number of locations throughout the western Oregon planning area. Public meetings and any other public involvement activities will be announced at least 15 days in advance through public notices, media news releases, newsletter mailings, and on the Western Oregon Plan Revisions Web site at: www.blm.gov/or/plans/wopr/index.php.

ADDRESSES: To request paper or compact disc copies of the document, contact: the BLM's Western Oregon Plan Revisions Team, 333 SW. First Avenue, P.O. Box 2965, Portland, Oregon 97208; fax: (503) 808-6630 (please address fax to: “Western Oregon Plan Revisions DEIS”). The DRMP/DEIS may also be accessed on line at: http://www.blm.gov/or/plans/wopr/index.php. Copies of the DRMP/DEIS will also be available for inspection at public libraries and BLM offices in western Oregon.

FOR FURTHER INFORMATION CONTACT: Alan Hoffmeister, Western Oregon Plan Revisions Public Outreach Coordinator; telephone (503) 808-6629; or e-mail: orwopr@or.blm.gov

SUPPLEMENTARY INFORMATION: The DRMP/DEIS for the Revision of Resource Management Plans of the Western Oregon BLM Districts has developed and analyzed four alternatives (including the No Action Alternative) for managing approximately 2,550,000 acres of Federal land, mostly revested Oregon and California Railroad and Coos Bay Wagon Road Grant lands, within the Western Oregon planning area. BLM has analyzed revision of six RMPs with this single EIS. The RMPs being revised are the Salem, Eugene, Roseburg, Medford, and Coos Bay District RMPs and the Klamath Falls Resource Area RMP in the Lakeview District.

Public comments received during scoping played an important role in shaping the alternatives, which are described and analyzed in the DRMP/DEIS.

The No Action Alternative maintains the decisions in the existing RMPs. Alternative One creates late-successional management areas similar to the large late-successional reserves in the no action alternative, applies new criteria for designating the width of riparian management areas, and provides for intensive forest management on other areas.

Alternative Two designates late successional management areas based on habitat requirements for the northern spotted owl and marbled murrelet, applies new criteria for designating the width of riparian management areas, and provides for intensive timber management on other areas.

Alternative Three manages most of the land base for timber production under long (240-360 years, depending on the area) rotations, or uneven-aged management in fire-prone ecosystems, in order to provide late-successional habitat across the landscape. Six sub-alternatives, which are variations of the three action alternatives, are also analyzed.

The major resource management plan issues include:

• Providing a sustainable supply of wood and other forest products as mandated by the O&C Lands Act, while also meeting other applicable laws.

• Providing for conservation of species listed under the Endangered Species Act.

• Contributing to meeting the goals of the Clean Water Act and the Safe Drinking Water Act.

• Reducing the risk of wildfire and integrating fire back into the ecosystem.

The preferred alternative designates 93 of the 124 existing and potential Areas of Critical Environmental Concern (ACEC) considered in detail. Many of the ACECs are also designated Research Natural Areas (RNA) or Outstanding Natural Areas (ONA).

In the Salem District, 19 existing ACECs are carried forward from the Salem District RMP: Crabtree Complex RNA/ONA (1,231 acres); Elk Creek (784 acres); Forest Peak RNA (155 acres); Grass Mountain RNA (930 acres); High Peak—Moon Creek RNA (1,490 acres); Jackson Bend (15 acres); Little Sink (81 acres); Lost Prairie (61 acres); Marys Peak ONA (353 acres); Middle Santiam Terrace (182 acres); Nestucca River (1,163); Rickreall Ridge (368 acres); Saddleback Mountain RNA (300 acres); Sandy River Gorge ONA (9,780 acres); The Butte RNA (39 acres); Valley of the Giants ONA (1,311 acres); Walker Flat (11 acres); Yampo (13 acres); and Yaquina Head ONA (91 acres). Five existing ACECs are not carried forward from the Salem District RMP: North Santiam (15 acres); Soosap Meadows (343 acres); White Rock Fen (55 acres); Wilhoit Springs (133 acres); and Williams Lake (90 acres). Six potential ACECs are designated: Little North Fork Wilson River (1,822 acres); Marys Peak B (75 acres); Mill Creek Ridge (114 acres); Molalla Meadows (205 acres); Silt Creek (140 acres); and Waterloo (9 acres). Five potential ACECs are not designated: Beaver Creek (44 acres); Lower Scappoose Eagle (179 acres); McCully Mountain (101 acres); Snow Peak (1,667 acres); and Wells Island (73 acres).

In the Eugene District, 9 existing ACECs are carried forward from the Eugene District RMP: Camas Swale RNA (308 acres); Cottage Grove Lake RFI (15 acres); Fox Hollow RNA (159 acres); Grassy Mountain (74 acres); Heceta Sand Dunes ONA (210 acres); Horse Rock Ridge RNA (378 acres); Hult Marsh (177 acres); Mohawk RNA (290 acres); and Upper Elk Meadows RNA (217 acres). Three existing ACECs are not carried forward from the Eugene District RMP: Coburg Hills RFI (855 acres); Cougar Mountain Yew Grove (90 acres); and Dorena Lake RFI (18 acres). Six potential ACECs are designated: Dorena Prairie (8 acres); Esmond Lake (86 acres); Lorane Ponderosa Pine (104 acres); McGowan Meadow (75 acres); Oak Basin Prairies (223 acres); and Willamette Valley Prairie/Oak and Pine Area (1,486 acres). Two potential ACECs are not designated: Low Elevation Headwaters of the McKenzie River (9,765 acres); and Taylor Creek (155 acres).

In the Roseburg District, 8 existing ACECs are carried forward from the Roseburg District RMP: Bear Gulch RNA (351 acres); Beatty Creek RNA (864 acres); Bushnell-Irwin Rocks RNA (1,085 acres); Myrtle Island RNA (19 acres); North Bank (6,162 acres); North Myrtle Creek RNA (453 acres); Red Pond RNA (141 acres); and Tater Hill RNA (303 acres). Two existing ACECs are not carried forward from the Roseburg RMP: North Umpqua River (1,791 acres); and Umpqua River Wildlife Area (855 acres). One potential ACEC is designated: Callahan Meadows (34 acres). Two potential ACECs are not designated: China Ditch (60 acres); and Stouts Creek (64 acres).

In the Coos Bay District, 9 existing ACECs are carried forward from the Coos Bay RMP: Cherry Creek RNA (592 acres); China Wall (302 acres); Hunter Creek Bog (721 acres); New River (876 acres); North Fork Chetco (603 acres); North Fork Coquille River (311 acres); North Fork Hunter Creek (1,757 acres); North Spit (682 acres); and Tioga Creek (42 acres). Two existing ACECs are not carried forward from the Coos Bay RMP: Upper Rock Creek (472 acres); and Wassen Creek (3,394 acres). Three potential ACECs are designated: Rocky Peak (1,827 acres); Roman Nose (205 acres); and Steel Creek (1,381 acres). Two potential ACECs are not designated: Brownson Ridge (399 acres); and Euphoria Ridge (241 acres). In the Medford District, 18 existing ACECs are carried forward from the Medford RMP: Bobby Creek RNA (1,915 acres); Brewer Spruce RNA (1,707 acres); Crooks Creek (147 acres); Eight Dollar Mountain (1,249 acres); French Flat (651 acres); Grayback Glades RNA (1,022 acres); Holton Creek RNA (421 acres); King Mountain Rock Garden (68 acres); Lost Lake RNA (387 acres); North Fork Silver Creek RNA (499 acres); Oregon Gulch RNA (1,051 acres); Pipe Fork RNA (516 acres); Poverty Flat (29 acres); Rough and Ready (1,189 acres); Round Top Butte RNA (605 acres); Scotch Creek RNA (1,799 acres); Table Rocks ONA (1,244 acres); and Woodcock Bog RNA (265 acres). Six existing ACECs are not carried forward from the Medford RMP: Baker Cypress (11 acres); Hole-In-The-Rock (63 acres); Hoxie Creek (255 acres); Moon Prairie (92 acres); Sterling Mine Ditch (143 acres); and Tin Cup (83 acres). Five potential ACECs are designated: Cobleigh Road (261 acres); Dakubetede Wildland (1,796 acres); East Fork Whiskey Creek (3,188 acres); Pickett Creek (32 acres); and Waldo-Takilma (1,760 acres). Two potential ACECs are not designated: Long Gulch (1,020 acres); and Reeves Creek (117 acres).

In the Klamath Falls Resource Area of the Lakeview District, 5 existing ACECs are carried forward from the Klamath Falls RMP: Miller Creek (939 acres); Old Baldy RNA (355 acres); Upper Klamath River (5,092 acres); Wood River Wetland (3,225 acres); and Yainax Butte (707 acres). Four potential ACECs are designated: Bumpheads (112 acres); Four Mile Wetland (1,173 acres); Tunnel Creek (72 acres); and Upper Klamath River Addition (910 acres).

Detailed information on resource use limitations for each ACEC is contained in Chapter 2 and Appendix M of the DRMP/DEIS.

Comments and information submitted on the DRMP/DEIS, including names, e-mail addresses, and street addresses of respondents, will be available for public review and disclosure at the above address. Before including your address, phone number, e-mail address, or other personal identifying information in your comment, you should be aware that your entire comment—including your personal identifying information—may be made publicly available at any time. While you can ask us in your comment to withhold your personal identifying information from public review, we cannot guarantee that we will be able to do so.

Edward W. Shepard,
State Director, OR/WA, USDI Bureau of Land Management.

[FR Doc. 07-3906 Filed 8-9-07; 8:45 am]

BILLING CODE 4310-33-P